DEPARTMENT OF VETERANS AFFAIRS

[OMB Control No. 2900-0718]

Agency Information Collection (Yellow Ribbon Agreement (Under Title 38 U.S.C. Chapter 33) Activity Under OMB Review

AGENCY: Veterans Benefits Administration, VA.

ACTION: Notice.

SUMMARY: In compliance with the Paperwork Reduction Act (PRA) of 1995 (44 U.S.C. 3501-21), this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before February 17, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0718” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0718” in any correspondence.

SUPPLEMENTARY INFORMATION:

Title: Yellow Ribbon Agreement (Under Title 38 U.S.C. Chapter 33), VA Form 22-0839.

OMB Control Number: 2900-0718.

Type of Review: Revision of a currently approved collection.

Abstract: Title 38 U.S.C. 3317 requires VA to enter into an agreement with schools wishing to participate in Yellow Ribbon Program. The agreement must state the beginning and ending dates of the academic year for which the school will provide contributions under the Yellow Ribbon Program, the maximum number of individuals for whom the school will make contributions in the specified academic year, and the maximum amount of contributions that may be provided on behalf of participating individuals during the academic year. VA is required to match each dollar provided by the school not to exceed 50 percent of the outstanding established charges. The statute further requires that VA post the information on a Web site for public viewing. VA will accept requests for participation, modifications, and withdrawals of Yellow Ribbon Program agreements during the open season enrollment period (March 15th through May 15th each calendar year) for the upcoming academic year and all future academic years unless changes are requested by VA or the institution.

An agency may not conduct or sponsor, and a person is not required to respond to a collection of information unless it displays a currently valid OMB control number. The Federal Register Notice with a 60-day comment period soliciting comments on this collection of information was published at 79 FR 60586, October 7, 2014.

Affected Public: Business or other for profit and Not for profit institutions.

Estimated Annual Burden: 31,710 hours.

Estimated Average Burden per Respondent: 14 hours.

Frequency of Response: One time.

Estimated Number of Respondents: 2,265.

Dated: January 9, 2015.
By direction of the Secretary.
Crystal Rennie,
VA Clearance Officer, U.S. Department of Veterans Affairs.

[FR Doc. 2015-00503 Filed 1-14-15; 8:45 am]

BILLING CODE 8320-01-P